DEPARTMENT OF THE INTERIOR

Bureau of Land Management

[UT-030-05-1610-PH-241A]

Grand Staircase-Escalante National Monument Advisory Committee: Call for Nominations

AGENCY: Bureau of Land Management (BLM), Interior.

ACTION: Notice of call for nominations for members of the Grand Staircase-Escalante National Monument Advisory Committee (GSENM-MAC).

SUMMARY: The purpose of this notice is to request public nominations for five members of the Grand Staircase-Escalante National Monument Advisory Committee (GSENM-MAC). The GSENM-MAC provides advice and recommendations to GSENM on science issues and the achievement of Grand Staircase-Escalante National Monument Management Plan objectives. GSENM will receive public nominations until September 26, 2005.

DATES: A completed nomination form and accompanying nomination letters must be received at the address listed below no later than September 26, 2005.

ADDRESSES: Grand Staircase-Escalante National Monument Headquarters Office, 190 East Center, Kanab, Utah 84741.

FOR FURTHER INFORMATION CONTACT: Allysia Angus, Landscape Architect / Land Use Planner, Grand Staircase-Escalante National Monument Headquarters Office, 190 East Center, Kanab, Utah 84741; phone (435) 644-4388, or e-mail allysia_angus@blm.gov.

SUPPLEMENTARY INFORMATION: The Secretary of the Interior established the GSENM-MAXC pursuant to section 309 of the Federal Land Policy and Management Act of 1976 (43 U.S.C. 1739) and in conformity with the Federal Advisory Committee Act (5 U.S.C. Appendix 2). The Secretary appoints persons to the GSENM-MAC who are representatives of the various major citizens interests pertaining to land use planning and management of the lands under BLM management in the GSENM. This notice, published pursuant to 43 CFR 1784.4-1 and in accordance with the Approved Management Plan for the Grand Staircase-Escalante National Monument (February 2000), requests the public to submit nominations for candidates who, if appointed, will replace the present incumbents of five, three-year terms on the GSENM-MAC that are scheduled to expire in September, 2005.05. Any individual or organization may nominate one or more persons to serve on the GSENM-MAC. Individuals may nominate themselves for GSENM-MAC membership.

Nomination forms may be obtained from the Grand Staircase-Escalante National Monument Headquarters Office, (address listed above). To make a nomination, submit to the Headquarters Office a letter of nomination, a completed nomination form, letters of reference from persons or organizations associated with the interest represented by the candidate, candidates and any other information that speaks to the candidate's qualifications.

Nominations may be made for the following categories of interest:

• A member with expertise in wildlife biology, to represent the wildlife biology community;

• A member with expertise in social science, to represent the social science community;

• A representative of State or tribal government;

• An educator, to represent the educational community; and

• A representative of the environmental community.

The specific category the candidate would be representing should be identified in the letter of nomination and in the nomination form. The BLM Utah State Director and the Manager, GSENM, will review the nomination forms and letters of reference. The BLM State Director shall confer with the Governor of the State of Utah on potential nominations. The BLM State Director will then forward recommended nominations to the Secretary of the Interior, who is responsible for making the appointments.

Each GSENM-MAC member will be a person who, as a result of training and experience, has knowledge or special expertise which qualifies him or her to provide advice from among the categories of interest listed above.

There are fifteen members of the GSENM-MAC. Members are appointed for terms of three years. The current terms for the Wildlife Biology, Social Science, State or tribal government, Educator, and Environmental positions will expire September 2005. The new appointments to these five positions will begin no earlier than September 2005 and will end September 2008.

Members will serve without monetary compensation, but will be reimbursed for travel and per diem expenses at current rates for Government employees. The Committee will meet at least twice a year. Additional meetings may be called by the Designated Federal Officer.

Dated: May 13, 2005.
Dave Hunsaker,
Grand Staircase-Escalante National Monument Manager.

[FR Doc. 05-15814 Filed 8-9-05; 8:45 am]

BILLING CODE 4310-DQ-P